Title 3—

The President

Proclamation 8466 of December 16, 2009

Wright Brothers Day, 2009

By the President of the United States of America

A Proclamation

For 12 seconds on December 17, 1903, a wooden aircraft took to the skies above Kitty Hawk, North Carolina, lifting two brothers from Dayton, Ohio, to their place in history. Their singular triumph triggered a revolution in transportation that would bridge the vast distances between continents and forever alter our world. Today, we honor the enduring American spirit of creativity and innovation that made the Wright Brothers’ maiden flight possible.

Self-taught and financed by the proceeds of their bicycle shop, the Wright Brothers’ success embodies our Nation’s proud tradition of entrepreneurship. In pursuit of the ageless dream of controlled flight, they persevered through great challenges. Early design failures, a skeptical public, and the sheer danger of their endeavors often tempted the brothers to quit, but they forged ahead with firm resolve and bold experimentation to complete their ascent to greatness.

In these challenging times, the story of Orville and Wilbur Wright reminds us of what can be accomplished when imagination is joined with tenacity. Their spirit lives on in every garage and basement workshop where American innovators still tinker, invent, and discover. The next Wright Brothers are among us today, working tirelessly toward a breakthrough that will spark a new industry and improve countless lives.

We must do all we can to support our Nation’s entrepreneurs. As we work toward a bright future powered by cutting-edge ideas and new technologies, we celebrate this day by looking back to the Wright Brothers, whose achievements affirm the limitless potential of American ingenuity.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2009, as Wright Brothers Day.

IN WITNESS WHEREOF, I have hereunto set my hand this sixteenth day of December, in the year of our Lord two thousand nine, and of the Independence of the United States of America the two hundred and thirty-fourth.

[FR Doc. E9-30548

Filed 12-21-09; 8:45 am]

Billing code 3195-W0-P